DEPARTMENT OF TRANSPORTATION

Surface Transportation Board

[Docket No. FD 35540]

Mannheim Armitage Railway, LLC—Acquisition and Operation Exemption—Certain Trackage Rights of J. Emil Anderson & Son, Inc. in Melrose Park, Cook County, IL

Mannheim Armitage Railway, LLC (Mannheim), a noncarrier, has filed a verified notice of exemption ¹ under 49 CFR 1150.31 to acquire from J. Emil Anderson & Son, Inc. (Anderson) and operate 1.006 miles, including 431 feet of siding, of private terminal trackage in Melrose Park, Cook County, Ill.²

¹ On September 1, 2011, Mannheim supplemented its notice of exemption stating that the proposed transaction does not require environmental documentation under 49 CFR 1105.6(c)(2) nor a historic report under 49 CFR 1105.8(b)(1).

² Mannheim states that the agreement with Anderson initially grants Mannheim an exclusive easement to conduct common carrier operations. Anderson will convey its entire right, title, and interest in and to the track after Mannheim has commenced serving shippers.

According to Mannheim, there are no mileposts associated with the track, which is located in the city of Melrose Park, Cook County. Mannheim states that Anderson is its corporate parent and that the track is currently being used by Indiana Harbor Belt Railroad (IHBR) to serve 2 active shippers. Anderson originally anticipated that the track would be conveyed to IHBR, but IHBR has been unwilling to accept responsibility for the track. Mannheim states that it will be the operator of the property and will establish suitable interchange arrangements with IHBR at the junction of the track and expects to discuss the possibility of using IHBR's locomotives (as well as IHBR crews) to provide service over the track.

The transaction may not be consummated until September 23, 2011 (30 days after the notice of exemption was filed).

Mannheim certifies that its projected annual revenues as a result of this transaction will not exceed levels that will qualify it as a Class III rail carrier.

If the verified notice contains false or misleading information, the exemption is void ab initio. Petitions to revoke the exemption under 49 U.S.C. 10502(d) may be filed at any time. The filing of a petition to revoke will not automatically stay the effectiveness of the exemption. Petitions to stay must be filed no later than September 16, 2011 (at least 7 days before the exemption becomes effective).

An original and 10 copies of all pleadings, referring to Docket No. FD 35540, must be filed with the Surface Transportation Board, 395 E Street, SW., Washington, DC 20423-0001. In addition, a copy of each pleading must be served on Donald G. Avery, 1224 17th St., NW., Washington, DC 20036.

Board decisions and notices are available on our Web site at http://www.stb.dot.gov.

Decided: September 6, 2011.
By the Board, Rachel D. Campbell, Director, Office of Proceedings.
Andrea Pope-Matheson,
Clearance Clerk.

[FR Doc. 2011-23116 Filed 9-8-11; 8:45 am]

BILLING CODE 4915-01-P